DEPARTMENT OF THE INTERIOR

Minerals Management Service

Environmental Documents Prepared for Proposed Oil, Gas, and Mineral Operations by the Gulf of Mexico Outer Continental Shelf (OCS) Region

AGENCY: Minerals Management Service, Interior.

ACTION: Notice of the availability of environmental documents prepared for OCS mineral proposals by the Gulf of Mexico OCS region.

SUMMARY: Minerals Management Service (MMS), in accordance with Federal Regulations that implement the National Environmental Policy Act (NEPA), announces the availability of NEPA-related Site-Specific Environmental Assessments (SEA) and Findings of No Significant Impact (FONSI), prepared by MMS for the following oil-, gas-, and mineral-related activities proposed on the Gulf of Mexico and Atlantic OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration, development, production, and transport of oil, gas, and mineral resources on the Federal OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

Activity/operator | Location | Date
WesternGeco, LLC, Geological & Geophysical Prospecting for Mineral Resources, SEA L08-09 | Located in the central Gulf of Mexico south of Fourchon, Louisiana | 3/21/2008
Dominion Exploration & Production, Inc., Structure Removal, SEA ES/SR 05-013A/014A | West Cameron, Block 570, Lease OCS-G 05188, located 103 miles from the nearest Louisiana shoreline | 5/9/2008
Apache Corporation, Structure Removal, SEA ES/SR 08-002A/014A | Ship Shoal, Block 207, Lease OCS-G 01523, located 334 miles from the nearest Louisiana shoreline | 5/21/2008
W & T Offshore, Inc., Structure Removal, SEA ES/SR 08-016A | Main Pass, Block 141, Lease OCS-G 09710, located 17 miles from the nearest Louisiana shoreline | 6/11/2008
EMGS Americas, Geological & Geophysical Prospecting for Mineral Resources, SEA L08-33 | Located in the central and western Gulf of Mexico south of Cameron, Louisiana | 6/16/2008
Maritech Resources, Inc., Structure Removal, SEA ES/SR 07-143A | Eugene Island, Block 116, Lease OCS-G 00478, located 46 miles from the nearest Louisiana shoreline | 6/18/2008
Maritech Resources, Inc., Structure Removal, SEA ES/SR 07-074A/138A/139A | South Marsh Island, Block 233, Lease OCS-G 11929, located 20 miles from the nearest Louisiana shoreline | 6/18/2008
Merit Energy Company, Structure Removal, SEA ES/SR 08-095 | East Cameron, Block 32, Lease OCS-G 04777, located 8 miles from the nearest Louisiana shoreline | 7/2/2008
Maritech Resources, Inc., Structure Removal, SEA ES/SR 01-038B | Eugene Island, Block 305, Lease OCS-G 02108, located 73 miles from the nearest Louisiana shoreline | 7/25/2008
Apache Corporation, Structure Removal, SEA ES/SR 06-147A | Grand Isle, Block 20, Lease OCS-G 03596, located 9 miles from the nearest Louisiana shoreline | 7/30/2008
Mariner Energy, Inc., Structure Removal, SEA ES/SR 08-129 | Brazos, Block 542, Lease OCS-G 12465, located 31 miles from the nearest Texas shoreline | 8/1/2008
Maritech Resources, Inc., Structure Removal, SEA ES/SR 01-038C | Eugene Island, Block 305, Lease OCS-G 02108, located 73 miles from the nearest Louisiana shoreline | 8/1/2008
Coastal Technology Corporation, Geological & Geophysical Prospecting for Mineral Resources, SEA E-7-01 | Located off the coast of St. Johns County, Florida, on the Federal OCS of the Atlantic Ocean | 8/1/2008
Fairfield Industries, Geological & Geophysical Prospecting for Mineral Resources, SEA L08-59 | Located in the western Gulf of Mexico south of Galveston, Texas | 8/15/2008
EMGS Americas, Geological & Geophysical Prospecting for Mineral Resources, SEA M08-01 | Located in the central and eastern Gulf of Mexico south of Mobile, Alabama | 8/20/2008
Ridgelake Energy, Inc., Structure Removal, SEA ES/SR 08-022 | High Island, Block A352, Lease OCS-G 24424, located 102 miles from the nearest Texas shoreline | 8/28/2008
Coastal Planning & Engineering, Inc., Geological & Geophysical Prospecting for Mineral Resources, SEA M08-05 | Located off the coast of Longboat Key, Florida, on the Federal OCS of the Gulf of Mexico | 8/29/2008
Seneca Resources Corporation, Structure Removal, SEA ES/SR 08-124A | West Cameron, Block 182, Lease OCS-G 15062, located 30 miles from the nearest Louisiana shoreline | 8/29/2008
Merit Energy Company, Structure Removal, SEA ES/SR 08-111 | Matagorda Island, Block 651, Lease OCS-G 06045, located 23 miles from the nearest Texas shoreline | 9/8/2008
Merit Energy Company, Structure Removal, SEA ES/SR 08-109 | Matagorda Island, Block 672, Lease OCS-G 10198, located 27 miles from the nearest Texas shoreline | 9/8/2008
Merit Energy Company, Structure Removal, SEA ES/SR 08-108 | Mustang Island, Block 785, Lease OCS-G 08975, located 28 miles from the nearest Texas shoreline | 9/8/2008
Merit Energy Company, Structure Removal, SEA ES/SR 08-113 | Mustang Island, Block A22, Lease OCS-G 04536, located 36 miles from the nearest Texas shoreline | 9/8/2008
Chevron U.S.A., Inc., Structure Removal, SEA ES/SR 08-139 | West Cameron, Block 63, Lease OCS-G 24705, located 12 miles from the nearest Louisiana shoreline | 9/9/2008
Merit Energy Company, Structure Removal, SEA ES/SR 08-111A | Matagorda Island, Block 651, Lease OCS-G 06045, located 23 miles from the nearest Texas shoreline | 9/10/2008
Wild Well Control, Inc., Structure Removal, SEA ES/SR 08-154 | Grand Isle, Block 47, RUE-G 30014, located 24 miles from the nearest Louisiana shoreline | 9/11/2008
TGS-NOPEC Geophysical Company L.P., Geological & Geophysical Prospecting for Mineral Resources, SEA L08-76 | Located in the central Gulf of Mexico south of Fourchon, Louisiana | 9/22/2008
EMGS Americas, Geological & Geophysical Prospecting for Mineral Resources, SEA L08-67 | Located south of Mississippi and Alabama in the OCS of the Gulf of Mexico | 9/22/2008
Mariner Energy, Inc., Well Conductor Removal, SEA ES/SR APMs HI A552-B005/B006 | High Island, Block A522, Lease OCS-G 03949, Wells B005 & B006, located 92 miles from the nearest Texas shoreline | 9/24/2008
Beryl Oil & Gas L.P., Structure Removal, SEA ES/SR 08-098A | West Delta, Block 57, Lease OCS-G 10878, located 3 miles from the nearest Louisiana shoreline | 10/2/2008
BP America Production Company, Structure Removal, SEA ES/SR 08-045 | West Delta, Block 70, Lease OCS-G 00182, located 23 miles from the nearest Louisiana shoreline | 10/3/2008
BP America Production Company, Structure Removal, SEA ES/SR 08-046 | West Delta, Block 94, Lease OCS-G 00839, located 27 miles from the nearest Louisiana shoreline | 10/3/2008
Helis Oil & Gas Company, Structure Removal, SEA ES/SR 08-160 | Galveston, Block 396, Lease OCS-G 23546, located 19 miles from the nearest Texas shoreline | 10/6/2008
Helis Oil & Gas Company, LLC, Structure Removal, SEA ES/SR 08-161 | East Cameron, Block 131, Lease OCS-G 21068, located 38 miles from the nearest Louisiana shoreline | 10/6/2008
Helis Oil & Gas Company, LLC, Structure Removal, SEA ES/SR 08-159/162 | Galveston, Block 418, Lease OCS-G 10921, located 21 miles from the nearest Texas shoreline; Brazos, Block 17, Lease OCS-G 22190, located 32 miles from the nearest Texas shoreline | 10/6/2008
Helis Oil & Gas Company, LLC, Structure Removal, SEA ES/SR 08-163 | West Cameron, Block 43, Lease OCS-G 16107, located 6 miles from the nearest Louisiana shoreline | 10/6/2008
Coastal Technology Corporation, Geological & Geophysical Prospecting for Mineral Resources, SEA E-8-02/03 | Located off the coast of Flagler County, Florida, Federal OCS of the Atlantic Ocean | 10/7/2008
Newfield Exploration Company, Structure Removal, SEA ES/SR 08-164 | Vermilion, Block 201, Lease OCS-G 27862, located 55 miles from the nearest Louisiana shoreline | 10/7/2008
Energy Partners, Ltd., Structure Removal, SEA ES/SR 07-092A | High Island, Block A327, Lease OCS-G 02418, located 109 miles from the nearest Texas shoreline | 10/9/2008
Prime Offshore, LLC, Structure Removal, SEA ES/SR 08-155 | South Padre Island, Block 1145, Lease OCS-G 24304, located 16 miles from the nearest Texas shoreline | 10/10/2008
GOM Shelf, LLC, Structure Removal, SEA ES/SR 08-013A | South Pass, Block 45, Lease OCS-G 04479, located 7 miles from the nearest Louisiana shoreline | 10/10/2008
Chevron U.S.A., Inc., Structure Removal, SEA ES/SR 08-119 | South Timbalier, Block 131, Lease OCS-G 00457, located 28 miles from the nearest Louisiana shoreline | 10/10/2008
GOM Shelf, LLC, Structure Removal, SEA ES/SR 08-040A | Matagorda Island, Block 633, Lease OCS-G 06042, located 14 miles from the nearest Texas shoreline | 10/11/2008
Chevron U.S.A., Inc., Structure Removal, SEA ES/SR 08-060A | Eugene Island, Block 276, Lease OCS-G 00989, located 63 miles from the nearest Louisiana shoreline | 10/17/2008
Apache Corporation, Structure Removal, SEA ES/SR 08-035A | High Island, Block A5, Lease OCS-G 17156, located 38 miles from the nearest Texas shoreline | 10/17/2008
W & T Offshore, Inc., Structure Removal, SEA ES/SR 08-166 | Main Pass, Block 069, Lease OCS-G 00372, located 12 miles from the nearest Louisiana shoreline | 10/24/2008
Arena Offshore, LLC, Structure Removal, SEA ES/SR 08-165 | South Timbalier, Block 172, Lease OCS-G 01256, located 39 miles from the nearest Louisiana shoreline | 10/28/2008
WesternGeco, LLC, Geological & Geophysical Prospecting for Mineral Resources, SEA L08-77 | Located in the central Gulf of Mexico south of Fourchon, Louisiana | 10/30/2008
WesternGeco, LLC, Geological & Geophysical Prospecting for Mineral Resources, SEA L08-82 | Located in the central Gulf of Mexico south of Fourchon, Louisiana | 10/30/2008
CGGVeritas, Geological & Geophysical Prospecting for Mineral Resources, SEA L08-83 | Located in the central Gulf of Mexico south of Cameron, Louisiana | 10/31/2008
Fugro Multi-Client Services, Inc., Geological & Geophysical Prospecting for Mineral Resources, SEA M08-11 | Located in the western, central and eastern Gulf of Mexico | 10/31/2008
Forest Oil Corporation, Structure Removal, SEA ES/SR 08-157/158 | West Cameron, Blocks 315 & 314, Leases OCS-G 08407 & 08406 respectively, located 42 miles from the nearest Louisiana shoreline | 10/31/2008
Mariner Energy, Inc., Structure Removal, SEA ES/SR 08-130/132 | High Island, Blocks A-551 & A-552, Leases OCS-G 03757 & 03949 respectively, located 100 miles from the nearest Texas shoreline | 11/21/2008
Spectrum Geo, Inc., Geological & Geophysical Prospecting for Mineral Resources, SEA M08-07/08/09 | Located in the eastern Gulf of Mexico | 11/21/2008
Hunt Petroleum (AEC), Inc., Structure Removal, SEA ES/SR 08-172 | Main Pass, Block 88, Lease OCS-G 23946, located 43 miles from the nearest Louisiana shoreline | 11/25/2008
PGS Geophysical, Geological & Geophysical Prospecting for Mineral Resources, SEA M08-10 | Located in the central and eastern Gulf of Mexico | 11/28/2008
Energy Partners, Ltd., Structure Removal, SEA ES/SR 08-156 | Vermilion, Block 320, Lease OCS-G 02087, located 87 miles from the nearest Louisiana shoreline | 12/1/2008
PXP Gulf Coast, Inc., Structure Removal, SEA ES/SR 08-173 | Chandeleur, Block 30, Lease OCS-G 24002, located 42 miles from the nearest Louisiana shoreline | 12/4/2008
W & T Offshore, Inc., Structure Removal, SEA ES/SR 08-153 | Galveston, Block 351, Lease OCS-G 24366, located 23 miles from the nearest Texas shoreline | 12/4/2008
Callon Petroleum Operating Company, Structure Removal, SEA ES/SR 08-147 | North Padre Island, Block 913, Lease OCS-G 22158, located 32 miles from the nearest Texas shoreline | 12/4/2008
Apache Corporation, Structure Removal, SEA ES/SR 08-038A/039A | High Island, Block 169, Lease OCS-G 14161, located 30 miles from the nearest Texas shoreline | 12/5/2008
Devon Energy Production Company, L.P., Vertical Seismic Profile Ancillary Activities, SEA R-4901 AA | Keathley Canyon, Block 291, Lease OCS-G 19545, located 195 miles south of Morgan City, Louisiana | 12/5/2008
Devon Energy Production Company, L.P., Vertical Seismic Profile Ancillary Activities, SEA R-4900 AA | Walker Ridge, Block 249, Lease OCS-G 16969, located 160 miles south of Terrebonne Parish, Louisiana | 12/5/2008
Devon Energy Production Company, L.P., Vertical Seismic Profile Ancillary Activities, SEA R-4904 AA | Walker Ridge, Block 249, Lease OCS-G 16969, located 160 miles south of Terrebonne Parish, Louisiana | 12/9/2008
Chevron U.S.A., Inc., Structure Removal, SEA ES/SR 07-053A | Eugene Island, Block 214, Lease OCS-G 00977, located 48 miles from the nearest Louisiana shoreline | 12/12/2008
Palace Operating Company, Structure Removal, SEA ES/SR 08-176 | Main Pass, Block 57, Lease OCS-G 19851, located 20 miles from the nearest Louisiana shoreline | 12/12/2008
Mariner Energy, Inc., Structure Removal, SEA ES/SR 08-168/171 | West Cameron, Block 226, Lease OCS-G 05293, located 42 miles from the nearest Louisiana shoreline | 12/12/2008
Mariner Energy, Inc., Structure Removal, SEA ES/SR 08-167 | South Marsh Island, Block 11, Lease OCS-G 01182, located 37 miles from the nearest Louisiana shoreline | 12/17/2008
W & T Offshore, Inc., Structure Removal, SEA ES/SR 08-174 | Ship Shoal, Block 149, Lease OCS-G 00434, located 33 miles from the nearest Louisiana shoreline | 12/17/2008
Apache Corporation, Structure Removal, SEA ES/SR 08-051 | East Cameron, Block 336, Lease OCS-G 03388, located 106 miles from the nearest Louisiana shoreline | 12/19/2008
Repsol E&P USA, Inc., Velocity Survey Operations to Collect Seismic Data, SEA R-4905 AA | Keathley Canyon, Block 872, Lease OCS-G 25823, located 236 miles south of Vermilion Parish, Louisiana | 12/22/2008
Apache Corporation, Structure Removal, SEA ES/SR 08-178 | Vermilion, Block 284, Lease OCS-G 09508, located 84 miles from the nearest Louisiana shoreline | 12/22/2008
Apache Corporation, Structure Removal, SEA ES/SR 08-179 | Ship Shoal, Block 291, Lease OCS-G 02923, located 60 miles from the nearest Louisiana shoreline | 12/23/2008
Hunt Oil Company, Structure Removal, SEA ES/SR 08-177 | Brazos, Block A2, Lease OCS-G 25518, located 12 miles from the nearest Texas shoreline | 12/29/2008

Persons interested in reviewing environmental documents for the proposals listed above or obtaining information about SEAs and FONSIs prepared by the Gulf of Mexico OCS Region are encouraged to contact MMS at the address or telephone listed in the FOR FURTHER INFORMATION CONTACT section.

Dated: April 7, 2009.
Lars Herbst,
Regional Director, Gulf of Mexico OCS Region.

[FR Doc. E9-8525 Filed 4-14-09; 8:45 am]

BILLING CODE 4310-MR-P